DEPARTMENT OF THE INTERIOR

National Park Service

Notice of Inventory Completion: Burke Museum, University of Washington, Seattle, WA

AGENCY: National Park Service, Interior.

ACTION: Notice.

Notice is here given in accordance with the Native American Graves Protection and Repatriation Act (NAGPRA), 25 U.S.C. 3003, of the completion of an inventory of human remains and associated funerary objects in the possession of the Burke Museum, University of Washington, Seattle, WA. The human remains and associated funerary objects were removed from the Fort Rock Valley area, Lake County, OR.

This notice is published as part of the National Park Service’s administrative responsibilities under NAGPRA, 25 U.S.C. 3003 (d)(3). The determinations within this notice are the sole responsibility of the museum, institution, or Federal agency that has control of these Native American human remains and associated funerary objects. The National Park Service is not responsible for the determinations within this notice.

A detailed assessment of the human remains was made by the Burke Museum professional staff in consultation with representatives of the Burns Paiute Tribe of the Burns Paiute Indian Colony of Oregon, Confederated Tribes of the Warm Springs Reservation of Oregon, Klamath Indian Tribe of Oregon, and Modoc Tribe of Oklahoma.

Between 1971 and 1972, human remains representing a minimum of one adult individual were removed by Dr. Harold G. Bergen from a site in Lake County, OR, designated by Dr. Bergen as 35Q. The human remains were held by Dr. Bergen until 1989 when they were accessioned by the Burke Museum (Accession no. 1989-57). No known individual was identified. According to Dr. Bergen’s field notes, animal bones were uncovered with these human remains, but the animal bones were not accessioned. No associated funerary objects are present.

In 1972, human remains representing a minimum of two individuals, an adult and a juvenile, were removed from a site in Lake County, OR, near the Fort Rock Valley area. This site was designated by Dr. Bergen as 35A. The human remains were held by Dr. Bergen until 1989 when they were accessioned by the Burke Museum (Accession no. 1989-57). No known individuals were identified. The one associated funerary object is an obsidian knife.

In 1973, human remains representing one individual were removed from a site in Lake County, OR, near the Fort Rock Valley area, designated by Dr. Bergen as site 35R. The human remains were held by Dr. Bergen until 1989 when they were accessioned by the Burke Museum (Accession no. 1989-57). No known individual was identified. The two associated funerary objects are artiodactyl femur fragments.

According to John R. Swanton’s 1968 book “The Indian Tribes of North America,” the Walpapi and Yahuskin bands inhabited the shores of Goose, Silver, Warner, and Harney Lakes, OR, and in the “Smithsonian Handbook of North American Indians,” the Yahuskin band is noted as an aboriginal inhabitant of the Fort Rock Valley area. The Fort Rock Valley area is within the boundaries of lands ceded by the Klamath and Modoc Tribes and the Yahooskin Band of Snake Indians by the terms of the “Treaty of Klamath Lake, Oregon with the Klamath, Modoc, and Yahooskin Band of Snake, October 14, 1864.” These ceded lands became part of the Klamath Reservation, where, according to Robert Ruby and John Brown in “A Guide to the Indian Tribes of the Pacific Northwest,” the Walpapi began to settle between 1867 and 1870.

Based on geographical information provided by tribal representatives during consultation, the archeological provenience of the human remains, ethnohistorical data, and the continuity of technology of material culture found with the human remains, museum officials have determined that the human remains and associated funerary objects are culturally affiliated with the Walpapi Band and the Yahooskin Band of Snake Indians, which are today represented by the Klamath Indian Tribe of Oregon.

Officials of the Burke Museum have determined that, pursuant to 25 U.S.C. 3001 (9-10), the human remains described above represent the physical remains of four individuals of Native American ancestry. Officials of the Burke Museum also have determined that, pursuant to 25 U.S.C. 3001 (3)(A), the three objects listed above are reasonably believed to have been placed with or near individual human remains at the time of death or later as part of the death rite or ceremony. Lastly, officials of the Burke Museum have determined that, pursuant to 25 U.S.C. 3001 (2), there is a relationship of shared group identity that can be reasonably traced between the Native American human remains and associated funerary objects and the Klamath Indian Tribe of Oregon.

Representatives of any other Indian tribe that believes itself to be culturally affiliated with the human remains and associated funerary objects should contact Dr. Peter Lape, Curator of Archaeology, Burke Museum, Box 353010, University of Washington, Seattle, WA 98195, telephone (206) 685-2282, before June 2, 2003. Repatriation of the human remains and associated funerary objects to the Klamath Indian Tribe of Oregon may proceed after that date if no additional claimants come forward.

The Burke Museum is responsible for notifying Burns Paiute Tribe of the Burns Paiute Indian Colony of Oregon, Confederated Tribes of the Warm Springs Reservation of Oregon, Klamath Indian Tribe of Oregon, and Modoc Tribe of Oklahoma that this notice has been published.

Dated: April 9, 2003.
John Robbins,
Assistant Director, Cultural Resources.

[FR Doc. 03-10918 Filed 5-1-03; 8:45 am]

BILLING CODE 4310-70-S